ENVIRONMENTAL PROTECTION AGENCY

[FRL-7218-5]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held June 11-13, 2002 at the Hotel Washington, Washington, DC. The CHPAC was created to advise the Environmental Protection Agency on science, regulations, and other issues relating to children's environmental health.

DATES: Tuesday, June 11, Science/Regulatory Work Group will meet; plenary sessions Wednesday, June 12 and Thursday, June 13, 2002.

ADDRESSES: Hotel Washington, 515 15th Street, NW., Washington, DC.

Agenda Items: The meetings of the CHPAC are open to the public. The Science/Regulatory Work Group will meet Tuesday, June 11, from 9:00 a.m. to 5:30 p.m. The plenary CHPAC will meet on Wednesday, June 12, from 9:00 a.m. to 5:30 p.m., with a public comment period at 5:00 p.m., and on Thursday, June 13, from 9:00 a.m. to 12:30 p.m.

The plenary session will open with introductions and a review of the agenda and objectives for the meeting. Agenda items include highlights of the Office of Children's Health Protection (OCHP) activities and a report from the Science and Regulator Work Group and the Smart Growth Ad Hoc Work Group. Other potential agenda items include an informational panel on Children's Environmental Health from an Environmental Justice Perspective.

FOR FURTHER INFORMATION CONTACT: Contact Joanne Rodman, Office of Children's Health Protection, USEPA, MC 1107A, 1200 Pennsylvania Avenue, NW., Washington, DC 20460, (202) 564-2188, rodman.joanne@epa.gov.

Dated: May 22, 2002.
Elizabeth Blackburn,
Acting Designated Federal Official.

[FR Doc. 02-13343 Filed 5-24-02; 8:45 am]

BILLING CODE 6560-50-P